DEPARTMENT OF TRANSPORTATION

Federal Aviation Administration

14 CFR Part 39

[Docket No. FAA-2005-22145; Directorate Identifier 2005-NM-148-AD; Amendment 39-14223; AD 2005-17-12]

RIN 2120-AA64

Airworthiness Directives; Bombardier Model CL-600-2B19 (Regional Jet Series 100 & 440) Airplanes

AGENCY: Federal Aviation Administration (FAA), Department of Transportation (DOT).

ACTION: Final rule; request for comments.

SUMMARY: The FAA is adopting a new airworthiness directive (AD) for certain Bombardier Model CL-600-2B19 (Regional Jet Series 100 & 440) airplanes. This AD requires inspecting to identify the wing anti-ice ducts (piccolo tubes) in the wing leading edge. For airplanes with affected piccolo tubes, this AD requires revising the airplane flight manual (AFM) to introduce new procedures for operation in icing conditions. The optional implementation of repetitive inspections for cracks of affected piccolo tubes, and corrective actions if necessary, terminates the operational limitations. The optional installation of certain new piccolo tubes terminates both the AFM revision and the inspections. This AD was prompted by reports of failed piccolo tubes. We are issuing this AD to prevent cracked piccolo tubes, which could result in air leakage, a possible adverse effect on the anti-ice air distribution pattern and anti-ice capability without annunciation to the flight crew, and consequent reduced controllability of the airplane.

DATES: This AD becomes effective September 7, 2005.

The Director of the Federal Register approved the incorporation by reference of certain publications listed in the AD as of September 7, 2005.

We must receive comments on this AD by October 24, 2005.

ADDRESSES: Use one of the following addresses to submit comments on this AD.

• DOT Docket Web Site: Go to http://dms.dot.gov and follow the instructions for sending your comments electronically.

• Government-wide Rulemaking Web Site: Go to http://www.regulations.gov and follow the instructions for sending your comments electronically.

• Mail: Docket Management Facility; U.S. Department of Transportation, 400 Seventh Street SW., Nassif Building, Room PL-401, Washington, DC 20590.

• Fax: (202) 493-2251.

• Hand Delivery: Room PL-401 on the plaza level of the Nassif Building, 400 Seventh Street SW., Washington, DC, between 9 a.m. and 5 p.m., Monday through Friday, except Federal holidays.

For service information identified in this AD, contact Bombardier, Inc., Canadair, Aerospace Group, P.O. Box 6087, Station Centre-ville, Montreal, Quebec H3C 3G9, Canada.

FOR FURTHER INFORMATION CONTACT: Dan Parrillo, Aerospace Engineer, Systems and Flight Test Branch, ANE-172, FAA, New York Aircraft Certification Office, 1600 Stewart Avenue, suite 410, Westbury, New York 11590; telephone (516) 228-7305; fax (516) 794-5531.

SUPPLEMENTARY INFORMATION:

Discussion

Transport Canada Civil Aviation (TCCA), which is the airworthiness authority for Canada, notified us that an unsafe condition may exist on certain Bombardier Model CL-600-2B19 (Regional Jet Series 100 & 440) airplanes. TCCA advises that it has received reports of failed wing anti-ice ducts (piccolo tubes) located in the wing leading edge. De-icing capability was degraded on the wing that had the piccolo tube damage. Upon investigation, it has been determined that piccolo tubes manufactured since June 2000 are susceptible to cracking due to the process used to drill the air distribution holes. Such cracking may cause air leakage, a possible adverse effect on the anti-ice air distribution pattern and anti-ice capability without annunciation to the flight crew, and consequent reduced controllability of the airplane.

Relevant Service Information

Bombardier has issued Canadair Temporary Revision (TR) RJ/155, dated July 5, 2005, to the Canadair Regional Jet Airplane Flight Manual (AFM), CSP A-012. The TR introduces new procedures for operation in icing conditions. The TR revises the Operating Limitations and Abnormal Procedures sections of AFM CSP A-012 to include new procedures for operation in icing conditions.

Accomplishing the actions specified in the TR is intended to adequately address the unsafe condition. TCCA mandated the TR and issued Canadian airworthiness directive CF-2005-26, dated July 11, 2005, to ensure the continued airworthiness of these airplanes in Canada.

Bombardier has also issued Service Bulletin 601R-30-029, Revision A, dated July 7, 2005. The service bulletin describes procedures for:

• Repetitively inspecting, using fluorescent dye penetrant methods, the piccolo tubes to detect cracks.

• Replacing cracked piccolo tubes with acceptable parts, or reinstalling cracked piccolo tubes under certain conditions.

• Reporting the inspection results to the manufacturer.

FAA's Determination and Requirements of the Proposed AD

This airplane model is manufactured in Canada and is type certificated for operation in the United States under the provisions of section 21.29 of the Federal Aviation Regulations (14 CFR 21.29) and the applicable bilateral airworthiness agreement. Pursuant to this bilateral airworthiness agreement, TCCA has kept the FAA informed of the situation described above. We have examined TCCA's findings, evaluated all pertinent information, and determined that we need to issue an AD for airplanes of this type design that are certificated for operation in the United States.

Therefore, we are issuing this AD, which requires identifying the part and serial numbers of the piccolo tubes installed on the airplane. For airplanes with affected piccolo tubes, the AD requires revising the AFM as specified previously. In addition, the optional implementation of the repetitive inspection program described previously terminates the operational limitations, provided operators comply with the exception described under “Differences Between the AD and the Service Bulletin/Canadian Airworthiness Directive.” The optional installation of certain new piccolo tubes terminates both the AFM revision and the repetitive inspections.

Differences Between the AD and the Service Bulletin/Canadian Airworthiness Directive

The service bulletin specifies contacting the manufacturer for instructions on how to repair certain conditions, but this AD requires repair of those conditions using a method approved by the FAA or TCCA (or its delegated agent). In light of the type of repair required to address the unsafe condition, and consistent with existing bilateral airworthiness agreements, we have determined that, for this AD, a repair approved by the FAA or TCCA is acceptable for compliance with this AD.

The applicability of the Canadian airworthiness directive specifies serial numbers 7417 through 7990 inclusive, and 8000 and subsequent. However, this AD expands that applicability to include additional airplanes that have been recently identified as having the affected piccolo tube installed. We have been informed that the Canadian airworthiness directive and the service bulletin will be revised in the near future to incorporate this change.

These differences have been coordinated with TCCA.

FAA's Determination of the Effective Date

An unsafe condition exists that requires the immediate adoption of this AD; therefore, providing notice and opportunity for public comment before the AD is issued is impracticable, and good cause exists to make this AD effective in less than 30 days.

Comments Invited

This AD is a final rule that involves requirements that affect flight safety and was not preceded by notice and an opportunity for public comment; however, we invite you to submit any relevant written data, views, or arguments regarding this AD. Send your comments to an address listed in the ADDRESSES section. Include “Docket No. FAA-2005-22145; Directorate Identifier 2005-NM-148-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2005-17-12 Bombardier, Inc. (Formerly Canadair): Amendment 39-14233. Docket No. FAA-2005-22145; Directorate Identifier 2005-NM-148-AD.

Effective Date

(a) This AD becomes effective September 7, 2005.

Affected ADs

(b) None.

Applicability: (c) This AD applies to Bombardier Model CL-600-2B19 (Regional Jet Series 100 & 440) airplanes, certificated in any category, having the serial numbers listed below: 7013, 7017, 7037, 7046, 7059, 7076, 7105, 7127, 7151, 7157, 7163, 7174, 7179, 7203, 7204, 7228, 7271, 7347, 7362, 7378, 7417 through 7990 inclusive, 8000 and subsequent.

Unsafe Condition

(d) This AD was prompted by reports of failed wing anti-ice ducts (piccolo tubes) in the leading edge of the wing. We are issuing this AD to prevent cracked piccolo tubes, which could result in air leakage, a possible adverse effect on the anti-ice air distribution pattern and anti-ice capability without annunciation to the flight crew, and consequent reduced controllability of the airplane.

Compliance: (e) You are responsible for having the actions required by this AD performed within the compliance times specified, unless the actions have already been done.

Service Bulletin References

(f) For purposes of this AD, any reference to “the service bulletin” means the Accomplishment Instructions of Bombardier Service Bulletin 601R-30-029, Revision A, dated July 7, 2005.

Identification of Affected Piccolo Tubes

(g) Before the airplane accumulates 3,000 total flight hours, or within 14 days after the effective date of this AD, whichever occurs later: Determine whether any affected piccolo tube is installed on the airplane. Affected piccolo tubes are identified in paragraph 1.A. of the service bulletin.

Revision to Aircraft Flight Manual (AFM)

(h) For airplanes with an affected or unidentifiable piccolo tube: Before the airplane accumulates 3,000 total flight hours, or within 14 days after the effective date of this AD, whichever occurs later, revise the Operating Limitations and Abnormal Procedures sections of the Canadair Regional Jet AFM, CSP A-012, to include the information in Canadair Temporary Revision (TR) RJ/155, dated July 5, 2005, as specified in the TR. This may be done by inserting a copy of the TR into the AFM. This TR introduces new procedures for operation in icing conditions. Operate the airplane according to the limitations and procedures in the TR. When this TR has been included in general revisions of the AFM, the general revisions may be inserted in the AFM, provided the relevant information in the general revision is identical to that in the TR.

Optional Inspections

(i) For airplanes with an affected or unidentifiable piccolo tube: The operating limitations and abnormal procedures specified in the TR, as required by paragraph (h) of this AD, may be removed from the AFM, provided all requirements of this paragraph have been satisfied.

(1) A fluorescent dye penetrant inspection for cracks of the piccolo tubes is done and repeated thereafter within 2,000-flight-hour intervals in accordance with the service bulletin. An inspection done before the effective date of this AD in accordance with Bombardier Service Bulletin 601R-30-029, dated June 17, 2005, is acceptable for compliance with the requirements of paragraph (i)(1) of this AD.

(2) All applicable corrective actions are done as specified in paragraph (k) of this AD.

(3) Applicable inspection reports are submitted as specified in paragraph (o) of this AD.

AFM Limitations Required for Exceeding Inspection Interval

(j) During any period in which the inspection interval exceeds 2,000 flight hours after the initial inspection specified in paragraph (i)(1) of this AD, the airplane must be operated under the limitations and abnormal procedures specified in paragraph (h) of this AD.

Corrective Action

(k) If any crack is found during any inspection required by paragraph (i) of this AD: Before further flight, do the actions specified in paragraph (k)(1), (k)(2), (k)(3), (k)(4), or (k)(5) of this AD, except as required by paragraph (l) of this AD.

(1) Replace the cracked piccolo tube, in accordance with the service bulletin, with a new piccolo tube that has the same part number as identified in paragraph 1.A. of the service bulletin but that does not have a serial number listed in that paragraph.

(2) Replace the cracked piccolo tube, in accordance with the service bulletin, with a new piccolo tube that has a part number identified in the applicable Bombardier illustrated parts catalog but not identified in paragraph 1.A. of the service bulletin, or with a new piccolo tube identified in paragraph (m) of this AD.

(3) Replace the cracked piccolo tube, in accordance with the service bulletin, with a piccolo tube that has been inspected in accordance with the service bulletin, is not cracked, and has not accumulated any air time (hours time-in-service) since inspection.

(4) Replace the cracked piccolo tube with a piccolo tube that has been repaired in accordance with a method approved by either the Manager, New York Aircraft Certification Office (ACO), ANE-172, FAA; or Transport Canada Civil Aviation (TCCA) (or its delegated agent); and has not accumulated any air time (hours time-in-service) since the repair.

(5) Reinstall the cracked piccolo tube and operate the airplane in accordance with a method approved by either the Manager, New York ACO, or TCCA (or its delegated agent). Operation in accordance with the provisions of Master Minimum Equipment List (MMEL) entry 30-12-03 is one acceptable method.

Exception to Service Bulletin Procedures

(l) Where the service bulletin specifies that Bombardier may be contacted for information regarding repair, this AD requires repair according to a method approved by either the Manager, New York ACO, or TCCA (or its delegated agent).

Optional Terminating Action

(m) Installation, in accordance with the service bulletin, of a complete set of new inboard, center, and outboard piccolo tubes, as identified in paragraphs (m)(1), (m)(2), and (m)(3) of this AD terminates the requirements of paragraphs (g), (h), (i), (j), and (k) of this AD. When these piccolo tubes have been installed, remove the Operating Limitations and Abnormal Procedures, if inserted in accordance with paragraph (h) of this AD, from the AFM.

(1) For the inboard piccolo tube: P/N 601-80032-7 (14432-107) and 601-80032-8 (14432-108).

(2) For the center piccolo tube: P/N 14464-105 and 14464-106.

(3) For the outboard piccolo tube: P/N 14463-109 and 14463-110.

Parts Installation

(n) As of the effective date of this AD, no person may install, on any airplane, a piccolo tube having a P/N listed in listed in paragraph 1.A. of the service bulletin, unless the requirements of this AD have been accomplished for that piccolo tube.

Report

(o) For any inspection done in accordance with paragraph (i) of this AD: Submit a report of the inspection results (both positive and negative findings) in accordance with Appendix B of the service bulletin. Information collection requirements contained in this AD have been approved by the Office of Management and Budget (OMB) under the provisions of the Paperwork Reduction Act of 1980 (44 U.S.C. 3501 et seq.) and have been assigned OMB Control Number 2120-0056.

(1) If the most recent inspection was done after the effective date of this AD: Submit the report within 10 days after the inspection.

(2) If the most recent inspection was accomplished prior to the effective date of this AD: Submit the report within 10 days after the effective date of this AD.

Alternative Methods of Compliance (AMOCs)

(p) The Manager, New York ACO, has the authority to approve AMOCs for this AD, if requested in accordance with the procedures found in 14 CFR 39.19.

Related Information

(q) Canadian airworthiness directive CF-2005-26, dated July 11, 2005, also addresses the subject of this AD.

Material Incorporated by Reference

(r) You must use Canadair Temporary Revision RJ/155, dated July 5, 2005, to the Canadair Regional Jet Airplane Flight Manual, CSP A-012; and Bombardier Service Bulletin 601R-30-029, Revision A, dated July 7, 2005, including Appendix A, dated June 17, 2005, and Appendix B, Revision A, dated July 7, 2005; to perform the actions that are required by this AD, unless the AD specifies otherwise. The Director of the Federal Register approved the incorporation by reference of this document in accordance with 5 U.S.C. 552(a) and 1 CFR part 51. For a copy of this service information, contact Bombardier, Inc., Canadair, Aerospace Group, P.O. Box 6087, Station Centre-ville, Montreal, Quebec H3C 3G9, Canada. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on August 11, 2005.
Kalene C. Yanamura,
Acting Manager, Transport Airplane Directorate, Aircraft Certification Service.

[FR Doc. 05-16533 Filed 8-22-05; 8:45 am]

BILLING CODE 4910-13-P